DEPARTMENT OF DEFENSE

Defense Acquisition Regulations System

48 CFR Parts 211, 212, and 252

RIN 0750-AG83

Defense Federal Acquisition Regulation Supplement; Reporting of Government-Furnished Property (DFARS Case 2009-D043)

AGENCY: Defense Acquisition Regulations System; Department of Defense (DoD).

ACTION: Notice of public meeting on proposed rule.

SUMMARY: DoD is proposing to amend the Defense Federal Acquisition Regulation Supplement (DFARS) to revise and expand reporting requirements for Government-furnished property to include items uniquely and non-uniquely identified, and to clarify policy for contractor access to Government supply sources.

DATES: Public Meeting: DoD is hosting a public meeting to discuss the proposed rule on March 18, 2011, from 1 p.m. to 4 p.m. DST. Attendees should register for the public meeting at least one week in advance to ensure adequate room accommodations. Registrants will be given priority if room constraints require limits on attendance. To register, please go to http://www.acq.osd.mil/dpap/dars/Government-furnished property.html and submit the following information:

(1) Company or organization name;

(2) Names of persons attending;

(3) Identity if desiring to speak; limit to a 10-minute presentation per company or organization.

FOR FURTHTER INFORMATION CONTACT: Send questions about registration or the submission of comments to the e-mail address identified at http://www.acq.osd.mil/dpap/dars/Government-furnished property.html. Please cite “Public Meeting, DFARS Case 2009-D043” in the subject line of the e-mail.

ADDRESSES: Public Meeting: The public meeting will be held in the General Services Administration multipurpose room, 2nd floor, One Constitution Square, 1275 First Street, NE., Washington, DC 20417.

Interested parties are encouraged to arrive at least 30 minutes early. Government ID holders (PIV Cards) will be able to scan their cards to enter the building. Other visitors will be able to enter the building by entering through the Visitors' Center, and will require a driver's license or other form of picture identification. If you wish to make a presentation, please contact and submit a copy of your presentation by March 11, 2011, to Ms. Clare Zebrowski, OUSD (AT&L) DPAP (DARS), 3060 Defense Pentagon, Room 3B855, Washington, DC 20302-3060; facsimile 703-602-0350. Please cite “Public Meeting, DFARS Case 2009-D043” in all correspondence related to this public meeting. The submitted presentations will be the only record of the public meeting. If you intend to have your presentation considered as a public comment to be considered in the formation of a final rule, the presentation must be submitted separately as a written comment as instructed below.

Special Accommodations: The public meeting is physically accessible to people with disabilities.

FOR FURTHER INFORMATION CONTACT: Ms. Clare Zebrowski, Telephone 703-602-0289; facsimile 703-602-0350. Please cite DFARS Case 2009-D043.

SUPPLEMENTARY INFORMATION:

A. Background

DoD published a proposed rule in the Federal Register on December 22, 2010 (75 FR 80427). DoD published an extension of the public comment period on February 18, 2011 (75 FR 9527). The public comment period ends on April 8, 2011.

Ynette R. Shelkin,
Editor, Defense Acquisition Regulations System.

[FR Doc. 2011-4524 Filed 2-28-11; 8:45 am]

BILLING CODE 5001-08-P